DEPARTMENT OF THE INTERIOR

Fish and Wildlife Service

[FWS-R5-R-2010-N164; BAC-4311-K9-S3]

Iroquois National Wildlife Refuge, Genesee County and Orleans County, NY

AGENCY: Fish and Wildlife Service, Interior.

ACTION: Notice of availability of draft comprehensive conservation plan and environmental assessment; request for comments.

SUMMARY: We, the U.S. Fish and Wildlife Service (Service), announce the availability of the draft comprehensive conservation plan (CCP) and environmental assessment (EA) for Iroquois National Wildlife Refuge (NWR) for a 30-day public review and comment period. In this draft CCP/EA, we describe three alternatives, including our Service-preferred Alternative B, for managing this refuge for the next 15 years. Also available for public review and comment is the draft compatibility determinations, which is included as Appendix A in the draft CCP/EA.

DATES: To ensure our consideration of your written comments, we must receive them by November 3, 2010. We will also hold an open house and public meeting at the refuge in the town of Alabama, New York, during the 30-day review period to receive comments and provide information on the draft plan. We will announce and post details about the public meeting in local news media, via our project mailing list, and on our Regional planning Web site, http://www.fws.gov/northeast/planning/Iroquois/ccphome.html.

ADDRESSES: Send your comments, requests for more information, or requests for copies of the draft CCP/EA by any of the following methods.

U.S. Mail: Thomas Bonetti, Natural Resource Planner, U.S. Fish and Wildlife Service, 300 Westgate Center Drive, Hadley, MA 01035.

Facsimile: Attention: Thomas Bonetti, 413-253-8468.

Electronic mail: northeastplanning@fws.gov. Include “Iroquois NWR CCP” in the subject line of your message.

Agency Web site: View or download the draft document at http://www.fws.gov/northeast/iroquois/.

In-Person Drop Off: You may drop off comments during regular business hours at Iroquois NWR, 1101 Casey Road, Basom, NY 14013.

FOR FURTHER INFORMATION CONTACT: Thomas Roster, Project Leader, Iroquois NWR, 1101 Casey Road, Basom, NY 14013; phone: 585-948-5445; facsimile: 585-948-9538; electronic mail: northeastplanning@fws.gov.

SUPPLEMENTARY INFORMATION:

Introduction

With this notice, we continue the CCP process for Iroquois NWR, which we started by publishing a notice in the Federal Register (73 FR 10279; February 26, 2008). We prepared the draft CCP in compliance with the National Environmental Policy Act of 1969 (42 U.S.C. 4321-4347, as amended) (NEPA) and the National Wildlife Refuge System Administration Act of 1966, as amended by the National Wildlife Refuge System Improvement Act of 1997 (16 U.S.C. 668dd-668ee) (Improvement Act).

Iroquois NWR was established in 1958 under the Migratory Bird Conservation Act for “* * * use as an inviolate sanctuary, or for any other management purpose, for migratory birds.” (16 U.S.C. 715d). The refuge consists of more than 10,800 acres within the rural townships of Alabama and Shelby, New York, midway between Buffalo and Rochester. Freshwater marshes and hardwood swamps are bounded by forests, grasslands, and wet meadows. These areas serve the habitat needs of both migratory and resident wildlife, including waterfowl, songbirds, mammals, and amphibians, as well as numerous indigenous plant species.

Background

The CCP Process:

The Improvement Act requires us to develop a CCP for each national wildlife refuge. The purpose for developing CCPs is to provide refuge managers with 15-year plans for achieving refuge purposes and the mission of the National Wildlife Refuge System (NWRS), in conformance with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update each CCP at least every 15 years, in accordance with the Improvement Act.

Public Outreach

In conjunction with our Federal Register notice announcing our intent to begin the CCP process, open houses and public information meetings were held in Western New York at three different locations during April 2008. Meetings were advertised locally through news releases, Web sites, and our mailing list. Participants were encouraged to actively express their opinions and suggestions. The public meetings allowed us to gather information and ideas from local residents, adjacent landowners, and various organizations and agencies.

Throughout the process, we have conducted additional outreach via newsletters and participation in meetings, and continued to request public input on refuge management and programs. We considered and evaluated all comments, and incorporated many of them into the varied alternatives in the draft CCP/EA.

CCP Actions We Are Considering, Including the Service-Preferred Alternative

We developed three management alternatives based on the purposes for establishing the refuge, its vision and goals, and the issues and concerns the public, State agencies, and the Service identified during the planning process. The alternatives have some actions in common, such as protecting cultural resources, developing step-down management plans, and controlling invasive plant species. Other actions distinguish the alternatives. The draft CCP/EA describes the alternatives in detail, and relates them to the issues and concerns we identified during the planning process. The following are highlights of each of the alternatives.

Alternative A (Current Management)

This alternative is the “No Action” alternative, as required by NEPA. Alternative A defines our current management activities, and serves as the baseline against which to compare the other alternatives. A selection of this alternative would maintain the status quo in managing the refuge for the next 15 years. No major changes would be made to current management practices. This alternative provides a basis for comparing the other two alternatives.

Current management of refuge impoundments would continue, resulting in no change in the amount of open water and emergent marsh habitat available to refuge wildlife. Forested habitat on the refuge would increase as the refuge allows natural succession of some early successional grassland and shrubland habitats. We would continue to eliminate small, isolated grasslands that do not provide significant habitat, leading to a 138-acre decrease in grassland habitat as compared to current levels. Refuge shrublands would continue to be cut at a rate of 10-20 acres annually, resulting in a decrease of 445 acres of shrubland habitat as compared to current levels. We would maintain existing opportunities for visitors to engage in wildlife observation and photography, environmental education, interpretation, hunting, and fishing on the refuge. We would also maintain existing infrastructure and buildings, and current staffing levels.

Alternative B (Service-Preferred Alternative)

This alternative is the one we propose as the best way to manage this refuge over the next 15 years. It includes the array of management actions that, in our professional judgment, works best toward achieving the refuge purposes, our vision and goals, and the goals of other State and regional conservation plans. We also believe it most effectively addresses the key issues raised during the planning process.

Under Alternative B, refuge habitat management would focus on decreasing habitat fragmentation and restoring native habitats. Similar to Alternative A, management of refuge impoundments would not change, with no change in the amount of open water and emergent marsh habitat available. The amount of early successional habitat, including grasslands and shrublands, would slightly increase as the refuge removes remaining hedgerows and improves connectivity between these habitats. The refuge would also convert 202 acres of non-native conifer plantations, replacing most of these plantations with native tree species. Some plantations, located in shrubland management areas, would be converted to native shrub species.

Similar to many other national wildlife refuges, we propose to limit public access to designated areas of the refuge year-round. Wildlife observation and photography, hiking, and walking would be permitted on established refuge nature trails. Off-trail access would be limited to permitted hunters participating in refuge hunting programs. Limiting off-trail access would reduce human disturbance to foraging and resting waterfowl and other migratory birds using refuge impoundments.

Under this alternative, we would renovate and expand the existing refuge headquarters building as a new visitor contact station and administration building. We also propose to co-locate the Lower Great Lakes Fish and Wildlife Conservation Office, currently located in Amherst, New York, in this new building. The 10,609 square-foot building would house a sales outlet for the Friends of Iroquois National Wildlife Refuge, an exhibit hall, multi-purpose room, conference room, and office space to accommodate Service Refuge and Fisheries programs staff and New York State Department of Environmental Conservation staff.

We would also continue our biological monitoring and inventory program, but regularly evaluate the results to help us better understand the implications of our management actions and identify ways to improve their effectiveness.

Alternative C (Natural Systems)

Refuge management under Alternative C would focus on restoration of natural ecosystem processes and functions. Habitat management would target a more natural state and emphasize restoration of native habitats. Refuge impoundments would no longer be actively managed, resulting in a 329-acre decrease in open water and emergent marsh habitat. Only the two largest grassland units would be managed, leading to a 50 percent reduction in the amount of grassland habitat. We would also discontinue active management of shrubland habitat, with only some native shrub swamp habitat remaining. Under this alternative, forest cover would increase by 1,548 acres through the natural succession of refuge grasslands, shrublands, open water, and emergent marsh habitat. Similar to Alternative B, non-native conifer plantations would be replaced with native tree species.

We propose to limit public access to designated areas of the refuge year-round, allowing wildlife observation, hiking, and walking on established refuge nature trails. Also, we propose to co-locate the Lower Great Lakes Fish and Wildlife Conservation Office currently located in Amherst, New York, with a new visitor contact station and administration building at Iroquois NWR.

Public Meetings

We will give the public opportunities to provide input at an open house and public meeting at the refuge headquarters in Alabama, New York. You can obtain the schedule from the project leader or natural resource planner (see ADDRESSES or FOR FURTHER INFORMATION CONTACT above). You may also submit comments at any time during the planning process by any means shown in the ADDRESSES section.

Public Availability of Comments

Before including your address, phone number, e-mail address, or other personal identifying information in your comments, you should be aware that your entire comment—including your personal identifying information—may be made publicly available at any time. While you can ask us in your comment to withhold your personal identifying information from public review, we cannot guarantee that we will be able to do so.

Dated: September 9, 2010.
James G. Geiger,
Acting Regional Director, U.S. Fish and Wildlife Service, Hadley, MA 01035.

[FR Doc. 2010-24836 Filed 10-1-10; 8:45 am]

BILLING CODE 4310-55-P